DEPARTMENT OF ENERGY

Federal Energy Regulatory Commission

[Docket No. RP09-42-000]

Hardy Storage Company, LLC; Notice of Technical Conference

December 16, 2008.

Take notice that the Commission will convene a technical conference in the above-referenced proceeding on Wednesday, January 14, 2009, at 10 a.m. (EDT), in a room to be designated at the offices of the Federal Energy Regulatory Commission, 888 First Street, NE., Washington, DC 20426.

The Commission's November 25, 2008 Order ¹ directed that a technical conference be held to address the issues raised by Hardy Storage Company, LLC's (Hardy) October 31, 2008 tariff filing regarding the proposed increase in Hardy's annual Retainage Adjustment Mechanism to recover company use gas and lost and unaccounted-for gas. Commission Staff and parties will have the opportunity to discuss all of the issues raised by Hardy's filing including, but not limited to, technical, engineering and operational issues, and issues related to the company's proposal to increase its total retainage percentage.

¹ Hardy Storage Co. L.L.C., 125 FERC ¶ 61,226 (2008).

FERC conferences are accessible under section 508 of the Rehabilitation Act of 1973. For accessibility accommodations please send an e-mail to accessibility@ferc.gov or call toll free (866) 208-3372 (voice) or (202) 502-8659 (TTY), or send a fax to (202) 208-2106 with the required accommodations.

All interested persons are permitted to attend. For further information please contact Sebrina M. Greene at (202) 502-6309 or e-mail sebrina.greene@ferc.gov.

Kimberly D. Bose,
Secretary.

[FR Doc. E8-30402 Filed 12-22-08; 8:45 am]

BILLING CODE 6717-01-P